DEPARTMENT OF THE INTERIOR

National Park Service

Draft General Management Plan and Environmental Impact Statement, Roosevelt-Vanderbilt National Historic Sites, Hyde Park, NY

AGENCY: National Park Service, Department of the Interior.

ACTION: Notice of Availability of the Draft General Management Plan and Environmental Impact Statement for Roosevelt-Vanderbilt National Historic Sites, Hyde Park, New York.

SUMMARY: Pursuant to section 102(2)(C) of the National Environmental Policy Act of 1969, as amended, the National Park Service announces the availability of the Draft General Management Plan and Environmental Impact Statement (Draft GMP/EIS) for Roosevelt-Vanderbilt National Historic Sites, New York.

Consistent with National Park Service laws, regulations, and policies, and the purposes of the National Historic Sites, the Draft GMP/EIS describes and analyzes three alternatives (No-Action, Action Alternative One, and Action Alternative Two) to guide the management of the National Historic Sites over the next 20 years. The Draft GMP/EIS covers the three units of the national park system that compose Roosevelt-Vanderbilt National Historic Sites: Home of Franklin D. Roosevelt National Historic Site; Eleanor Roosevelt National Historic Site; and Vanderbilt Mansion National Historic Site. The three national historic sites are combined into a single administrative unit, but each was established by separate legislation and each has its own purpose and significance. At present, management of the National Historic Sites is guided by three separate planning documents. Although a GMP was needed for each of the sites, a single unifying plan was deemed to be the most expeditious and critical for continued coordinated management.

Primary planning issues include preservation and treatment of cultural resources, provision of visitor services, and partnership opportunities. The alternatives incorporate various management prescriptions to ensure protection, access, and enjoyment of the parks' resources. The No Action Alternative would continue the current management direction. Action Alternative One would emphasize restoring historic appearance and encouraging visitors to explore more of the estate buildings and landscape. Action Alternative Two would seek to make the parks relevant to more audiences by encouraging greater civic participation in park activities, while significantly enhancing the historic character of park resources. Action Alternative Two is the National Park Service's preferred alternative. The Draft GMP/EIS evaluates the potential environmental consequences of implementing the alternatives. Impact topics include the cultural, natural, and socioeconomic environments.

DATES: The National Park Service will accept comments on the Draft GMP/EIS from the public for a period of 60 days following publication of the Environmental Protection Agency's Notice of Availability in the Federal Register. The National Park Service will also hold a public forum to solicit comments on the Draft GMP/EIS during the public review period. The date, time and location will be announced in local newspapers, on the parks' Web sites (http://www.nps.gov/hofr, http://www.nps.gov/elro, http://www.nps.gov/vama, http://www.parkplanning.nps.gov/rova), and can also be obtained by calling 845.229.9116 extension x 10.

ADDRESSES: There are several ways to view the document, which will be publicly available on or about December 1, 2009:

• An electronic version of the document will be available for public review and comment on the National Park Service Planning, Environment and Public Comment (PEPC) Web site at http://parkplanning.nps.gov/rova.

• Copies of the document can be viewed at Bellefield, the Roosevelt-Vanderbilt headquarters, 4097 Albany Post Road, Hyde Park, NY, and at the Hyde Park Free Library, 2 Main Street, Hyde Park, NY.

• Copies of the document can be requested by contacting the park at 845.229.9116 extension 10.

If you wish to comment, you may submit your comments by any one of several methods. The preferred method of comment is via the Internet at http://parkplanning.nps.gov/rova. You may also mail written comments to Superintendent Sarah Olson, Roosevelt-Vanderbilt National Historic Sites, 4097 Albany Post Road, Hyde Park, NY 12538. You may also fax your comments to 845.229.7115. Before including your address, phone number, e-mail address, or other personal identifying information in your comment, you should be aware that your entire comment—including your personal identifying information—may be made publicly available at any time. While you can ask us in your comment to withhold your personal identifying information from public review, we cannot guarantee that we will be able to do so.

FOR FURTHER INFORMATION CONTACT: Superintendent, Roosevelt-Vanderbilt National Historic Sites, 4097 Albany Post Road, Hyde Park, NY 12538, Phone: 845.229.9116 ext. 33, Sarah_Olson@nps.gov.

SUPPLEMENTARY INFORMATION: Together the sites include over 1,100 acres of federally owned land, along with 40 historic buildings (including four furnished historic homes), 14 miles of roads and trails, 35 acres of forest plantations set out by FDR, five historic gardens, nearly 100 acres of open fields, and over 25,000 objects and artifacts. The parks are supported by an annual budget of over $5 million and the work of hundreds of volunteers and they attract more than half a million visitors every year.

Home of Franklin D. Roosevelt National Historic Site preserves and interprets the birthplace, lifelong home, and memorial gravesite of FDR, so that current and future generations can appreciate the life and legacy of the U.S. president who led the nation through the Great Depression and World War II.

Eleanor Roosevelt National Historic Site commemorates and perpetuates the life work of Eleanor Roosevelt, and preserves and interprets the place most central to her emergence as a public figure, so that current and future generations can appreciate her life and legacy as a champion of democracy and human rights.

Vanderbilt Mansion National Historic Site preserves and interprets the country estate of Frederick W. and Louise Vanderbilt as a premier example of an “American country place,” which illustrates important economic, social, and cultural developments resulting from America's industrialization following the Civil War.

The Draft GMP/EIS sets forth alternative visions (management alternatives) for the preservation and operation of Roosevelt-Vanderbilt National Historic Sites. This plan is the product of a process that integrates the aspirations of the public with the unique capabilities of the NPS to provide for the preservation and public enjoyment of the National Historic Sites over the next 20 years.

Michael T. Reynolds,
Acting Regional Director, Northeast Region, National Park Service.

[FR Doc. E9-30355 Filed 12-22-09; 8:45 am]

BILLING CODE P